DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with November anniversary dates. In accordance with the Department's regulations, we are initiating those administrative reviews. The Department also received a request to revoke one antidumping duty order in part.

DATES: Effective December 31, 2012.

FOR FURTHER INFORMATION CONTACT: Brenda E. Waters, Office of AD/CVD Operations, Customs Unit, Import Administration, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with November anniversary dates. The Department also received a timely request to revoke in part the antidumping duty order on Fresh Garlic from the People's Republic of China (“PRC”) for one exporter.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(3)(ii), a copy of each request must be served on the petitioner and each exporter or producer specified in the request.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that, with regard to reviews requested on the basis of anniversary months on or after August 2011, the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than November 30, 2013.

| Period to be Reviewed
Antidumping Duty Proceedings
Brazil: Polyethylene Terephthalate (PET) Film, A-351-841 | 11/1/11-10/31/12
Terphane, Inc.
Terphane, Ltda
Germany: Lightweight Thermal Paper, A-428-840 | 11/1/11—10/31/12
Papierfabrik August Koehler AG
Mexico: Certain Circular Welded Non-Alloy Steel Pipe, A-201-805 | 11/1/11—10/31/12
Conduit S.A. de C.V.
Mueller Comercial de Mexico, S. de R.L. de C.V.
Pytco, S.A. de C.V.
Southland Pipe Nipples Co., Inc.
Lamina y Placa Comercial, S.A. de C.V.
Regiomontana de Perfiles y Tubos, S.A. de C.V.
Ternium Mexico, S.A. de C.V.
Tuberia Nacional, S.A. de C.V.
Mexico: Seamless Refined Copper Pipe and Tube, A-201-838 | 11/1/11—10/31/12
IUSA, S.A. de C.V.
GD Affiliates S. de R.L. de C.V.
Luvata Juarez S. de R.L. de C.V.
Luvata Monterrey S. de R.L. de C.V.
Nacional de Cobre, S.A. de C.V.
Republic of Korea: Certain Circular Welded Non-Alloy Steel Pipe, A-580-809 | 11/1/11—10/31/12
SeAH Steel Corporation
Hyundai HYSCO
Husteel Co., Ltd.
Nexteel Co., Ltd.
Dongbu Steel Co., Ltd.
Kumkang Industrial Co., Ltd.
A-JU Besteel Co., Ltd.
Union Steel Co., Ltd.
The People's Republic of China: Certain Cut-to-Length Carbon Steel Plate,³ A-570-849 | 11/1/11—10/31/12
Bao/Baoshal Iron and Steel Corp./Baoshan International Trade Corp./Bao Steel Metals Trading Corp.
Shanghai Pudong Iron and Steel Co.
Hunan Valin Xiangtan Iron & Steel Co., Ltd
The People's Republic of China: Certain Hot-Rolled Carbon Steel Flat Products,⁴ A-570-865 | 11/1/11—10/31/12
Baosteel Group Corporation
Baoshan Iron & Steel Co., Ltd.
Shanghai Baosteel International Economic & Trading Co., Ltd.
The People's republic of china: Diamond Sawblades and Parts Thereof,⁵ A-570-900 | 11/1/11—10/31/12
Advanced Technology & Materials Co., Ltd.
ATM International Trading Co., Ltd.
Beijing Gang Yan Diamond Products Co.
Bosun Tools Co., Ltd.
Bosun Tools Group Co., Ltd.
Bosun Tools Inc. USA
Central Iron and Steel Research Institute Group
China Iron and Steel Research Institute Group
Chengdu Huifeng Diamond Tools Co., Ltd.
Cliff International Ltd.
Danyang Aurui Hardware Products Co., Ltd.
Danyang City Ou Di Ma Tools Co., Ltd.
Danyang Dida Diamond Tools Manufacturing Co., Ltd.
Danyang Huachang Diamond Tools Manufacturing Co.,
Ltd.
Danyang NYCL Tools Manufacturing Co., Ltd.
Danyang Tsunda Diamond Tools Co., Ltd.
Danyang Weiwang Tools Manufacturing Co., Ltd.
Danyang Youhe Tool Manufacturer Co., Ltd.
Electrolux Construction Products (Xiamen) Co., Ltd.
Fujian Quanzhou Wanlong Stone Co., Ltd.
Guilin Tebon Superhard Material Co., Ltd.
Hangzhou Deer King Industrial and Trading Co., Ltd.
Hebei Husqvarna-Jikai Diamond Tools Co., Ltd.
Hebei Jikai Industrial Group Co., Ltd.
Huachang Diamond Tools Manufacturing Co., Ltd.
Hua Da Superabrasive Tools Technology Co., Ltd.
Husqvarna (Hebei) Co., Ltd.
Husqvarna Construction Products North America, Inc.
Huzhou Gu's Import & Export Co., Ltd.
Huzhou Gu's Imp. & Exp. Co., Ltd.
Jiangsu Fengtai Diamond Tool Manufacture Co., Ltd
Jiangsu Fengyu Tools Co., Ltd.
Jiangsu Inter-China Group Corporation
Jiangyin Likn Industry Co., Ltd.
Jiangsu Youhe Tool Manufacturer Co., Ltd.
Protech Diamond Tools
Pujiang Talent Diamond Tools Co., Ltd.
Qingdao Shinhan Diamond Industrial Co., Ltd.
Qingyuan Shangtai Diamond Tools Co., Ltd.
Quanzhou Shuangyang Diamond Tools Co., Ltd.
Quanzhou Zhongzhi Diamond Tool Co., Ltd.
Quanzhou Zongzhi Diamond Tool Co., Ltd.
Rizhao Hein Saw Co., Ltd.
Saint-Gobain Abrasives, Inc.
Saint-Gobain Abrasives (Shanghai) Co.
Shanghai Deda Industry & Trading Co., Ltd.
Shanghai Jingquan Ind. Trade Co., Ltd.
Shanghai Robtol Tool Manufacturing Co., Ltd.
Shijiazhuang Global New Century Tools Co., Ltd.
Sichuan Huili Tools Co.
Task Tools & Abrasives
Wanli Tools Group
Weihai Xiangguang Mechanical Industrial Co., Ltd.
Wuhan Wanbang Laser Diamond Tools Co.
Wuxi Lianhua Superhard Material Tools Co., Ltd.
Xiamen ZL Diamond Tools Co., Ltd.
Yichang HXF Circular Saw Industrial Co. Ltd.
Zhejiang Tea Import & Export Co., Ltd.
Zhejiang Wanda Import and Export Co.
Zhejiang Wanda Tools Group Corp.
Zhejiang Wanli Super-hard Materials Co., Ltd.
Zhejiang Wanli Tools Group Co., Ltd.
Zhenjiang Inter-China Import & Export Co., Ltd.
The People's Republic of China: Fresh Garlic,⁶ A-570-831 | 11/1/11—10/31/12
American Pioneer Shipping
Anhui Dongqian Foods Ltd
Anqiu Friend Food Co., Ltd.
Anqiu Haoshun Trade Co., Ltd.
APM Global Logistics (Shanghai) Co., Ltd.
APS Qingdao
Cangshan Qingshui Vegetable Foods Co., Ltd.
Chengwu County Yuanxiang Industry &
Commerce Co., Ltd.
Chiping Shengkang Foodstuff Co., Ltd.
CMEC Engineering Machinery Import & Export Co,. Ltd.
Dongying Shunyifa Chemical Co., Ltd.
Dynalink Systems Logistics (Qingdao) Inc.
Eimskip Logistics Inc.
Feicheng Acid Chemicals Co., Ltd.
Foshan Fuyi Food Co, Ltd.
Frog World Co., Ltd.
Golden Bridge International, Inc.
Guangxi Lin Si Fu Bang Trade Co., Ltd
Hangzhou Guanyu Foods Co., Ltd.
Hebei Golden Bird Trading Co., Ltd.
Henan Weite Industrial Co., Ltd.
Heze Ever-Best International Trade Co., Ltd. (f/k/a Shandong Heze International Trade and Developing Company)
Hongqiao International Logistics Co.
Intecs Logistics Service Co., Ltd.
IT Logistics Qingdao Branch
Jinan Farmlady Trading Co., Ltd.
Jinan Solar Summit International Co., Ltd.
Jinan Yipin Corporation Ltd.
Jining De-Rain Trading Co., Ltd.
Jining Highton Trading Co., Ltd.
Jining Jiulong International Trading Co., Ltd.
Jining Tiankuang Trade Co., Ltd.
Jining Trans-High Trading Co., Ltd.
Jining Yifa Garlic Produce Co., Ltd.
Jining Yongjia Trade Co., Ltd.
Jinxiang Chengda Import & Export Co., Ltd.
Jinxiang County Huaguang Food Import & Export Co., Ltd.
Jinxiang Dacheng Food Co., Ltd.
Jinxiang Dongyun Freezing Storage Co., Ltd. (a/k/a
Jinxiang Eastward Shipping Import and Export Limited Company).
Jinxiang Dongyun Import & Export Co., Ltd.
Jinxiang Fengsheng Import & Export Co., Ltd.
Jinxiang Grand Agricultural Co., Ltd.
Jinxiang Hejia Co., Ltd.
Jinxiang Infarm Fruits & Vegetables Co., Ltd.
Jinxiang Jinma Fruits Vegetables Products Co., Ltd.
Jinxiang Merry Vegetable Co., Ltd.
Jinxiang Meihua Garlic Produce Co., Ltd.
Jinxiang Shanyang Freezing Storage Co., Ltd.
Jinxiang Shenglong Trade Co., Ltd.
Jinxiang Tianheng Trade Co., Ltd.
Jinxiang Tianma Freezing Storage Co., Ltd.
Jinxiang Xian Baishite Trade Co., Ltd. (a/k/a Jinxiang Best Trade Co., Ltd.)
Jinxiang Yuanxin Import & Export Co., Ltd.
Juye Homestead Fruits and Vegetables Co., Ltd.
Kingwin Industrial Co., Ltd.
Laiwu Fukai Foodstuff Co., Ltd.
Laizhou Xubin Fruits and Vegetables
Linshu Dading Private Agricultural Products Co., Ltd.
Linyi City Hedong District Jiuli Foodstuff Co.
Linyi City Kangfa Foodstuff Drinkable Co., Ltd.
Linyi Katayama Foodstuffs Co., Ltd.
Linyi Tianqin Foodstuff Co., Ltd.
Ningjin Ruifeng Foodstuff Co., Ltd.
Qingdao Apex Shipping Co., Ltd.
Qingdao BNP Co., Ltd.
Qingdao Cherry Leather Garment Co., Ltd.
Qingdao Chongzhi International Transportation Co., Ltd.
Qingdao Everfresh Trading Co., Ltd.
Qingdao Liang He International Trade Co., Ltd
Qingdao Lianghe International Trade Co., Ltd.
Qingdao Maycarrier Import & Export Co., Ltd.
Qingdao Saturn International Trade Co., Ltd.
Qingdao Sea-Line International Trading Co., Ltd.
Qingdao Sino-World International Trading Co., Ltd.
Qingdao Tiantaixing Foods Co., Ltd.
Qingdao Winner Foods Co., Ltd.
Qingdao Xintianfeng Foods Co., Ltd.
Qingdao Xin Tian Feng Food Co., Ltd.
Qingdao Yuankang International
Qufu Dongbao Import & Export Trade Co., Ltd.
Rizhao Huasai Foodstuff Co., Ltd.
Samyoung America (Shanghai) Inc.
Shandong Chengshun Farm Produce Trading Co., Ltd.
Shandong Chenhe Intl Trading Co., Ltd.
Shandong China Bridge Imports
Shandong Dongsheng Eastsun Foods Co., Ltd.
Shandong Garlic Company
Shandong Jinxiang Zhengyang Import & Export Co., Ltd.
Shandong Longtai Fruits and Vegetables Co., Ltd.
Shandong Sanxing Food Co., Ltd.
Shandong Wonderland Organic Food Co., Ltd.
Shandong Xingda Foodstuffs Group Co., Ltd.
Shandong Yipin Agro (Group) Co., Ltd.
Shanghai Ever Rich Trade Company
Shanghai Goldenbridge International Co., Ltd.
Shanghai Great Harvest International Co., Ltd.
Shanghai LJ International Trading Co., Ltd.
Shanghai Medicines & Health Products Import/Export Co., Ltd.
Shanghai Yijia International Transportation Co., Ltd.
Shenzhen Bainong Co., Ltd.
Shenzhen Fanhui Import & Export Co., Ltd.
Shenzhen Greening Trading Co., Ltd.
Shenzhen Xinboda Industrial Co., Ltd.
Shenzhen Xunong Trade Co., Ltd.
Shijiazhuang Goodman Trading Co., Ltd.
Sunny Import & Export Limited
T&S International, LLC.
Taian Eastsun Foods Co., Ltd.
Taian Fook Huat Tong Kee Pte. Ltd.
Taian Solar Summit Food Co., Ltd.
Taiyan Ziyang Food Co., Ltd.
Tianjin Spiceshi Co., Ltd.
U.S. United Logistics (Ningbo) Inc.
V.T. Impex (Shandong) Limited
Weifang Chenglong Import & Export Co., Ltd.
Weifang He Lu Food Import & Export Co., Ltd.
Weifang Hong Qiao International Logistics Co., Ltd.
Weifang Hongqiao International Logistics Co., Ltd.
Weifang Jinbao Agricultural Equipment Co., Ltd.
Weifang Naike Foodstuffs Co., Ltd.
Weifang Shennong Foodstuff Co., Ltd.
Weihai Textile Group Import & Export Co., Ltd.
WSSF Corporation (Weifang)
Xiamen Huamin Import Export Company
Xiamen Keep Top Imp. and Exp. Co., Ltd.
Xinjiang Top Agricultural Products Co., Ltd.
XuZhou Heiners Agricultural Co., Ltd.
XuZhou Simple Garlic Industry Co., Ltd.
Yantai Jinyan Trading Inc.
Yishui Hengshun Food Co., Ltd.
You Shi Li International Trading Co., Ltd.
Zhangzhou Xiangcheng Rainbow Greenland Food Co., Ltd.
Zhengzhou Dadi Garlic Industry Co., Ltd.
Zhengzhou Harmoni Spice Co., Ltd.
Zhengzhou Huachao Industrial Co., Ltd.
Zhengzhou Xiwannian Food Co., Ltd.
Zhengzhou Xuri Import & Export Co., Ltd.
Zhengzhou Yuanli Trading Co., Ltd.
Zhong Lian Farming Product (Qingdao) Co., Ltd.
The People's Republic of China: Lightweight Thermal Paper,⁷ A-570-920 | 11/1/11—10/31/12
Guangdong Guanhao High-Tech Co., Ltd
Hanhong International Limited
Henan Province Jianghe Paper Co., Ltd
Jianghe Paper Co., Ltd
JHT Paper
New Pride Co., Ltd
Shanghai Hanhong Paper Co., Ltd.
Shenzhen Taizhou Industrial Development Co., Ltd
The People's Republic of China: Polyethylene Terephthalate (PET) Film,⁸ A-570-924 | 11/1/11—10/31/12
DuPont Hongji Films Foshan Co., Ltd.
DuPont Teijin Films China Ltd.
Dupont Teijin Hongji Films Ningbo Co., Ltd.
Fuwei Films (Shandong) Co., Ltd.
Shaoxing Xiangyu Green Packing Co., Ltd.
Tianjin Wanhua Co., Ltd.
Sichuan Dongfang Insulating Material Co., Ltd.
The People's Republic of China: Seamless Carbon and Alloy Steel Standard, Line,⁹ A-570-956 and Pressure Pipe | 11/1/11—10/31/12
3a Venture Ltd.
Angang Group New Steel Co.,Ltd.
Adler Steel Ltd.
Ael-berkman Forwarding (Shanghai) Ltd.
Agility Logistics (Shanghai) Ltd.
Angang Steel Co., Ltd (ANGGY)
Anhui Tianda Oil Pipe (Anhui Tianda Oil Pipe Co. Limited)
Baolai Steel Pipe
Baoshan Iron & Steel—Steel Tube Subcompany
Baosteel America Inc.
Baosteel Group Shanghai Steel Tube
Baotou Iron and Steel (Group) Co. Ltd.
Beihai Steel Pipe Corporation
Beijing Kaisheng Ao Import and Export
Beijing Sai Lin Ke Hardware Co., Ltd.
Benxi Fulldoer Tubes
Benxi Northern Steel Pipe
Calvert Group
Cangzhou Qiancheng Steel Pipe Co., Ltd.
Chang Zhou Yuanyang Steel Tube Co., Ltd.
Changgang Group
Changshu Lijia Import and Export Co., Ltd.
Changshu Seamless Steel Tube (CSSST)
Changzhou Bao-Steel Tube
Changzhou Darun Steel Tube
Changzhou Tongchuang Tube Industry
Changzhou Tongxing Steel Tube
Changzhou Yuanyang Steel Tube
China-East Resources Import & Export Company
Chongqing Iron & Steel (Group) Co., Ltd.
Chongqing Rato Power Co., Ltd.
Chu Kong Steel Pipe Group Co.
Cloudstone Metal International Ltd.
CNOOC Kingland Pipe Industry Co., Ltd.
Corpac Steel Products Corp.
Daewoo International Corporation
Dexin Steel Tube (China) Co., Ltd.
Dezhou Hualude Hardware Products Co.
Dragon Max Management Ltd.
Etco (China) International Trading
Excel International Corp.
Fastco (Shanghai) Trading Co., Ltd.
Fengshi Forge Co., Ltd.
Forest Oilfield Services Co., Ltd.
Ge Steel Resource Ltd.
Great Richwell Industry & Trading (Shanghai) Co., Ltd.
Gs-Hydro Piping Systems Shanghai
Handan Precise Seamless Steel Pipes
Hangzhou Cogeneration Imp. & Exp. Co.
Hangzhou Evt Import and Export Co.
Hangzhou Prostar Enterprises Ltd.
Hangzhou Zhedong Steel Tube Products
Hebei Litonglian Seamless Steel Pipe
Hebei Machinery Import and Export Co., Ltd.
Hebei Xintai Pipeline Manufacturing
Hebei Zhonghai Steel Pipe Manufacture
Hengyang Hongda Special Steel Tube Co., Ltd.
Hengyang Steel Tube Group Int'l Trading Inc. (Subsidiaries: Hengyang Valin Steel Tube Co., Ltd., Hengyang Valin MPM Tube Co., Ltd., Xigang Seamless Steel Tube Co., Ltd., Wuxi Seamless Special Pipe Co., Ltd., Jiangsu Xigang Group Co., Ltd., Wuxi Resources Steel Making Co., Ltd., Wuxi Sifang Steel Tube Co., Ltd., Hunan Valin Iron & Steel Group Co., Ltd., Hunan Valin Steel Co., Ltd., and Hunan Valin Xiangtan Iron & Steel Co., Ltd.)
Heyi Steel Tube
HK Myind Ltd.
Hsea Steel Trading Co., Ltd.
Huawei Steel
Hubei Xinyegang Steel Co., Ltd. (Hubei Xin Yegang Special Tube Co., Ltd.)
Huizhou Dingjia Trade Co., Ltd.
Huludao Steel Pipe Industrial
Huzhou Shine Ports Imp & Emp Ltd.
Jcof Shanghai International Trading
Jiangsu Benqiu Pipe Products
Jiangsu Changbao Steel Tube
Jiangsu Chengde Steel Tube Share Company
Jiangsu Didu Pipeline Co., Ltd.
Jiangsu Henyuan Garden Supplies Co.
Jiangsu Huacheng Industry Group
Jiangsu Huashun Steel Pipe
Jiangsu Valin-Xigang Special Steel
Jiangsu Yinhuan Precision Steel Tube
Jiangsu Yulong Steel Pipe Co., Ltd.
Jiangsu ZhenDa Steel Tube Group Co., Ltd.
Jiangyin City Changjiang Steel (Jiangyin City Changjiang Steel Pipe)
Jiangyin City Seamless Steel Tube Factory
Jiangyin Long-Bright Drill Pipe Manufacture Co., Ltd.
Jiaxing Suns International Trade Co., Ltd.
Jiling Jiyuan Steel Pipe
Jinan Jiujing Import & Export Co., Ltd.
Jinan Meide Casting Co., Ltd.
Karl Gross Logistics (Shanghai) Co., Ltd. (as agent of Perficon Steel Gmbh)
Kingland Pipeline Co.
Kingruman (Beijing) Int. Investment
Kotech Industry & Co., Ltd.
LDR Industries, Inc.
Liuzhou Iron & Steel Co.
Madison Shanghai Trading Co., Ltd.
Makalu Corporation Limited
Manchuar Steel NV
Maxvalue Industries Co., Ltd.
Mengcun Hui Autonomous County Hexin Pipes
Mercadex B.V.
Nantong Hengte Tube Co., Ltd
Ningbo Nd Import Export Co., Ltd.
Northern Steel Pipe
Okaya (Shanghai) Co., Ltd.
Pangang Group Chengdu Steel & Vanadium Co. Ltd.
Pangang Group Chengdu Iron & Steel (PGG CSST)
Panzhihua Iron & Steel (Group) Co.
Power Success (Hong Kong) Limited
Qingdao Iron & Steel Group Co.
Qiqihaer Haoying Iron and Steel Co., Ltd., of Northeast Special Steel Group
Samkyung Trading Corp.
Shandong HuaBao Steel Pipe (Shandong HuaBao Steel Pipe Co., Ltd.)
Shandong Jinding Industrial Stock Co., Ltd
Shandong Luxing Steel Pipe (Shandong Luxing Steel Pipe Co., Ltd.)
Shandong Molong Petroleum Machinery
Shandong Zhongli Steel Pipe Co., Ltd
Shanghai Baosteel Group Corp.
Shanghai Eutin International Trading
Shanghai Metal Corporation
Shanghai Ni Fang Trade Inc.
Shanghai Shengwei Trade Co., Ltd.
Shanghai Shenhua Steel Tube
Shanghai Tianyang Steel Tube (Shanghai Tianyang Imp. & Exp. Co.)
Shanghai Xin Li International Trading
Shanghai Yueyuechao Manufacture Tube
Shanghai Yueyuechao International Trading Co.
Shanghai Zhongyou Tipo Steel Pipe Co., Ltd.
Shanxi Changzhi Iron & Steel (Group) Co., Ltd.
Shanxi Yuci Guolian Steel Pipe
Sheng Ding Yuan Pipe-Making
Shenjian Steel Pipe
Shenyang Debang Stainless Steel Industrial (DBSS)
Shen Yang On Line Pipe Fittings Co.
Shijiazhuang Beihai Pipe Co., Ltd.
Siano (Beijing) Steel Co., Ltd.
Sino East Steel Enterprise Co., Ltd.
Spat Steel International (H.K.) Ltd.
Steel Pipe Co., Ltd., of Laiwu
Steelforce Far East Ltd.
Stiletto (H.K.) Ltd.
Sun Steel Int'l Trading Ltd.
Suzhou Hesheng Special Material Co.
Suzhou Seamless Steel Tube Works
Suzhou Sino Import & Export Co., Ltd.
Tianjin Dexpo Import and Export Co.
Tianjin Gangji Shipping Agency Co.
Tianjin Keyuanxing Import & Export Tr.
Tianjin Meicai Metal Trading Co., Ltd.
Tianjin Tiangang Special Petroleum Pipe Manufacture Co., Ltd.
Tianjin Pipe (Group) Corporation (TPCO or TPCO International) (Subsidiaries: Tianjin Pipe International Economic & Trade Co., Tianjin Pipe Iron Manufacturing Co., Ltd., TPCO Charging Development Co., Ltd. and Tianguan Yuantong Pipe Product Co.)
Tianjin Weiming Industrial & Trading
Tianjin Zhongshun Industry Trade Co., Ltd.
Tonggang Group (Hong Kong) Co., Ltd.
Tonghua Iron & Steel Group Co., Ltd.
TLD International
Transgroup Worldwide Logistics Co., Ltd.
Uno-steel Group Limited
Valin Hongkong International Trade
Vietnman Haiphong Hongyuan Machinery Manufactory Co., Ltd
Wah Chit Enterprises Co., Ltd.
Wenzhou Juxing Special Steel Co. Ltd.
Widesea Industrial Corporation Ltd.
Wisco & Crm Wuhan Materials & Trade
WSP Pipe Co., Ltd.
Wuhan Iron & Steel (Group) Corp.
Wuxi City DeRui Seamless Steel Pipe
Wuxi City Dong Qun Steel Tube
Wuxi City Qianzhou Seamless Tube Factory
Wuxi Dexin Steel Pipe Co., Ltd.
Wuxi Dingyuan Precision Cold-Drawn Steel Pipe
Wuxi Dongwu Pipe Industry
Wuxi Erquan Special Steel Tube
Wuxi Fastube Dingyuan Precision Steel Pipe Co., Ltd.
Wuxi Huayou Special Steel Co., Ltd.
Wuxi Nanfang Steel Tube
Wuxi Seamless Oil Pipe
Wusi Special Steel Tube Manufacturing Co.
Wuxi Sunrising Steel Co., Ltd.
Wuxitengdong Speical Steel Material
Wuxi Xingya Seamless Steel Tube
Wuxi Zhen Dong Steel Pipe Works
Wuxi Zhenda Bearing Steel Tube Manufacturing
Wuxi Zhenda Special Steel Tube Manufacturing
Xiamen Cenice International Trade Corp., Ltd.
Xigang Seamless Steel Tube
Xuahou G&H Investment Consultation
Xuahou Global Pipe and Fitting Manufacturing Co., Ltd.
Yancheng Steel Tube Works
Yangcheng Oriental Import & Export Co., Ltd.
Yangzhou Chengde Steel Tube (Yangzhou Chengde Steel Co., Yangzhou Chengde Steel Pipe Co.)
Yangzhou Lontrin Steel Tube (Yangzhou Lontrin Steel Tube Co. Ltd.)
Yantai Lubao Steel Tube
Yantai Steel Pipe Co., Ltd. of Laiwu
Yantai Steel Pipe Plant, Yantai, Shandong
Yicheng Logistics (Shanghai) Co., Ltd.
Yieh Corporation Ltd.
Yuhuan Yinma Copper's Industry Co.
Zhangjiagang Huacheng Import and Export Co.,Ltd.
Zhangjiagang Huayou Tubular Co.
Zhangjiagang Zhongyuan Pipe-Making
Zheijiang Gross Seamless Steel Tube Co., Ltd.
Zheijiang Materials Industry International
Zhengzhou Huitong Pipe Fittings Co. Ltd.
Zhejiang Jianli Enterprise
Zhongjian Jinpei Steel Pipe Co., Ltd.
Zhongyuan Pipeline Manufacturing Co.
The People's Republic of China: Seamless Refined Copper Pipe and Tube,¹⁰ A-570-964 | 11/1/11—10/31/12
China Hailiang Metal Trading
Foshan Hua Hong Copper Tube Co., Ltd.
Golden Dragon Holding (Hong Kong) International Co., Ltd.
Golden Dragon Precise Copper Tube Group, Inc.
Guilin Lijia Metals Co., Ltd.
Hong Kong GD Trading Co., Ltd.
Hong Kong Hailiang Metal
Hong Kong Hailiang Metal Trading Limited
Luvata Alltop (Zhongshan) Ltd.
Luvata Tube (Zhongshan) Ltd.
Ningbo Jintian Copper Tube Co., Ltd.
Shanghai Hailiang Copper Co., Ltd.
Shanghai Hailiang Metal Trading Limited
Sinochem Ningbo Import & Export Co., Ltd.
Sinochem Ningbo Ltd.
Taicang City Jinxin Copper Tube Co., Ltd.
Zhejiang Hailiang Co., Ltd.
Zhejiang Jiahe Pipes Inc.
Zhejiang Naile Copper Co., Ltd.
United Arab Emirates: Polyethylene Terephthalate (PET) Film, A-520-803 | 11/1/11—10/31/12
Flex Middle East FZE
JBF RAK LLC
Countervailing Duty Proceedings
The People's Republic of China: Lightweight Thermal Paper, C-570-921 | 1/1/11—12/31/11
Guangdong Guanhao High-Tech Co., Ltd.
Henan Province Jianghe Paper Co., Ltd.
Jianghe Paper Co., Ltd.
JHT Paper
New Pride Co., Ltd.
Shenzhen Taizhou Industrial Development Co., Ltd.
The People's Republic of China: Seamless Carbon and Alloy Steel Standard, Line, C-570-957 and Pressure Pipe | 1/1/11—12/31/11
3a Venture Ltd.
Angang Group New Steel Co., Ltd.
Adler Steel Ltd.
Ael-berkman Forwarding (Shanghai) Ltd.
Agility Logistics (Shanghai) Ltd.
Angang Steel Co., Ltd (ANGGY)
Anhui Tianda Oil Pipe (Anhui Tianda Oil Pipe Co. Limited)
Baolai Steel Pipe
Baoshan Iron & Steel—Steel Tube Subcompany
Baosteel America Inc.
Baosteel Group Shanghai Steel Tube
Baotou Iron and Steel (Group) Co. Ltd.
Beihai Steel Pipe Corporation
Beijing Kaisheng Ao Import and Export
Beijing Sai Lin Ke Hardware Co., Ltd.
Benxi Fulldoer Tubes
Benxi Northern Steel Pipe
Calvert Group
Cangzhou Qiancheng Steel Pipe Co., Ltd.
Chang Zhou Yuanyang Steel Tube Co., Ltd.
Changgang Group
Changshu Lijia Import and Export Co., Ltd.
Changshu Seamless Steel Tube (CSSST)
Changzhou Bao-Steel Tube
Changzhou Darun Steel Tube
Changzhou Tongchuang Tube Industry
Changzhou Tongxing Steel Tube
Changzhou Yuanyang Steel Tube
China-East Resources Import & Export Company
Chongqing Iron & Steel (Group) Co., Ltd.
Chongqing Rato Power Co., Ltd.
Chu Kong Steel Pipe Group Co.
Cloudstone Metal International Ltd.
CNOOC Kingland Pipe Industry Co., Ltd.
Corpac Steel Products Corp.
Daewoo International Corporation
Dexin Steel Tube (China) Co., Ltd.
Dezhou Hualude Hardware Products Co.
Dragon Max Management Ltd.
Etco (China) International Trading
Excel International Corp.
Fastco (Shanghai) Trading Co., Ltd.
Fengshi Forge Co., Ltd.
Forest Oilfield Services Co., Ltd.
Ge Steel Resource Ltd.
Great Richwell Industry & Trading (Shanghai) Co., Ltd.
Gs-Hydro Piping Systems Shanghai
Handan Precise Seamless Steel Pipes
Hangzhou Cogeneration Imp. & Exp. Co.
Hangzhou Evt Import and Export Co.
Hangzhou Prostar Enterprises Ltd.
Hangzhou Zhedong Steel Tube Products
Hebei Litonglian Seamless Steel Pipe
Hebei Machinery Import and Export Co., Ltd.
Hebei Xintai Pipeline Manufacturing
Hebei Zhonghai Steel Pipe Manufacture
Hengyang Hongda Special Steel Tube Co., Ltd.
Hengyang Steel Tube Group Int'l Trading Inc. (Subsidiaries: Hengyang Valin Steel Tube Co., Ltd., Hengyang Valin MPM Tube Co., Ltd., Xigang Seamless Steel Tube Co., Ltd., Wuxi Seamless Special Pipe Co., Ltd., Jiangsu Xigang Group Co., Ltd., Wuxi Resources Steel Making Co., Ltd., Wuxi Sifang Steel Tube Co., Ltd., Hunan Valin Iron & Steel Group Co., Ltd., Hunan Valin Steel Co., Ltd., and Hunan Valin Xiangtan Iron & Steel Co., Ltd.)
Heyi Steel Tube
HK Myind Ltd.
Hsea Steel Trading Co., Ltd.
Huawei Steel
Hubei Xinyegang Steel Co., Ltd.
(Hubei Xin Yegang Special Tube Co., Ltd.)
Huizhou Dingjia Trade Co., Ltd.
Huludao Steel Pipe Industrial
Huzhou Shine Ports Imp & Emp Ltd.
Jcof Shanghai International Trading
Jiangsu Benqiu Pipe Products
Jiangsu Changbao Steel Tube
Jiangsu Chengde Steel Tube Share Company
Jiangsu Didu Pipeline Co., Ltd.
Jiangsu Henyuan Garden Supplies Co.
Jiangsu Huacheng Industry Group
Jiangsu Huashun Steel Pipe
Jiangsu Valin-Xigang Special Steel
Jiangsu Yinhuan Precision Steel Tube
Jiangsu Yulong Steel Pipe Co., Ltd.
Jiangsu ZhenDa Steel Tube Group Co., Ltd.
Jiangyin City Changjiang Steel
Jiangyin City Changjiang Steel Pipe
Jiangyin City Seamless Steel Tube Factory
Jiangyin Long-Bright Drill Pipe Manufacture Co., Ltd.
Jiaxing Suns International Trade Co., Ltd.
Jiling Jiyuan Steel Pipe
Jinan Jiujing Import & Export Co., Ltd.
Jinan Meide Casting Co., Ltd.
Karl Gross Logistics (Shanghai) Co., Ltd. (as agent of Perficon Steel Gmbh)
Kingland Pipeline Co.
Kingruman (Beijing) Int. Investment
Kotech Industry & Co., Ltd.
LDR Industries, Inc.
Liuzhou Iron & Steel Co.
Madison Shanghai Trading Co., Ltd.
Makalu Corporation Limited
Manchuar Steel NV
Maxvalue Industries Co., Ltd.
Mengcun Hui Autonomous County Hexin Pipes
Mercadex B.V.
Nantong Hengte Tube Co., Ltd
Ningbo Nd Import Export Co., Ltd.
Northern Steel Pipe
Okaya (Shanghai) Co., Ltd.
Pangang Group Chengdu Steel & Vanadium Co. Ltd.
Pangang Group Chengdu Iron & Steel (PGG CSST)
Panzhihua Iron & Steel (Group) Co.
Power Success (Hong Kong) Limited
Qingdao Iron & Steel Group Co.
Qiqihaer Haoying Iron and Steel Co., Ltd., of Northeast Special Steel Group
Samkyung Trading Corp.
Shandong HuaBao Steel Pipe (Shandong HuaBao Steel Pipe Co., Ltd.)
Shandong Jinding Industrial Stock Co., Ltd
Shandong Luxing Steel Pipe (Shandong Luxing Steel Pipe Co., Ltd.)
Shandong Molong Petroleum Machinery
Shandong Zhongli Steel Pipe Co., Ltd
Shanghai Baosteel Group Corp.
Shanghai Eutin International Trading
Shanghai Metal Corporation
Shanghai Ni Fang Trade Inc.
Shanghai Shengwei Trade Co., Ltd.
Shanghai Shenhua Steel Tube
Shanghai Tianyang Steel Tube (Shanghai Tianyang Imp. & Exp. Co.)
Shanghai Xin Li International Trading
Shanghai Yueyuechao Manufacture Tube
Shanghai Yueyuechao International Trading Co.
Shanghai Zhongyou Tipo Steel Pipe Co., Ltd.
Shanxi Changzhi Iron & Steel (Group) Co., Ltd.
Shanxi Yuci Guolian Steel Pipe
Sheng Ding Yuan Pipe-Making
Shenjian Steel Pipe
Shenyang Debang Stainless Steel Industrial (DBSS)
Shen Yang On Line Pipe Fittings Co.
Shijiazhuang Beihai Pipe Co., Ltd.
Siano (Beijing) Steel Co., Ltd.
Sino East Steel Enterprise Co., Ltd.
Spat Steel International (H.K.) Ltd.
Steel Pipe Co., Ltd., of Laiwu
Steelforce Far East Ltd.
Stiletto (H.K.) Ltd.
Sun Steel Int'l Trading Ltd.
Suzhou Hesheng Special Material Co.
Suzhou Seamless Steel Tube Works
Suzhou Sino Import & Export Co., Ltd.
Tianjin Dexpo Import and Export Co.
Tianjin Gangji Shipping Agency Co.
Tianjin Keyuanxing Import & Export Tr.
Tianjin Meicai Metal Trading Co., Ltd.
Tianjin Tiangang Special Petroleum Pipe Manufacture Co., Ltd.
Tianjin Pipe (Group) Corporation (TPCO or TPCO International) (Subsidiaries: Tianjin Pipe International Economic & Trade Co., Tianjin Pipe Iron Manufacturing Co., Ltd., TPCO Charging Development Co., Ltd. and Tianguan Yuantong Pipe Product Co.)
Tianjin Weiming Industrial & Trading
Tianjin Zhongshun Industry Trade Co., Ltd.
Tonggang Group (Hong Kong) Co., Ltd.
Tonghua Iron & Steel Group Co., Ltd.
TLD International
Transgroup Worldwide Logistics Co., Ltd.
Uno-steel Group Limited
Valin Hongkong International Trade
Vietnman Haiphong Hongyuan Machinery Manufactory Co., Ltd
Wah Chit Enterprises Co., Ltd.
Wenzhou Juxing Special Steel Co. Ltd.
Widesea Industrial Corporation Ltd.
Wisco & Crm Wuhan Materials & Trade
WSP Pipe Co., Ltd.
Wuhan Iron & Steel (Group) Corp.
Wuxi City DeRui Seamless Steel Pipe
Wuxi City Dong Qun Steel Tube
Wuxi City Qianzhou Seamless Tube Factory
Wuxi Dexin Steel Pipe Co., Ltd.
Wuxi Dingyuan Precision Cold-Drawn Steel Pipe
Wuxi Dongwu Pipe Industry
Wuxi Erquan Special Steel Tube
Wuxi Fastube Dingyuan Precision Steel Pipe Co., Ltd.
Wuxi Huayou Special Steel Co., Ltd.
Wuxi Nanfang Steel Tube
Wuxi Seamless Oil Pipe
Wusi Special Steel Tube Manufacturing Co.
Wuxi Sunrising Steel Co., Ltd.
Wuxitengdong Speical Steel Material
Wuxi Xingya Seamless Steel Tube
Wuxi Zhen Dong Steel Pipe Works
Wuxi Zhenda Bearing Steel Tube Manufacturing
Wuxi Zhenda Special Steel Tube Manufacturing
Xiamen Cenice International Trade Corp., Ltd.
Xigang Seamless Steel Tube
Xuahou G&H Investment Consultation
Xuahou Global Pipe and Fitting Manufacturing Co., Ltd.
Yancheng Steel Tube Works
Yangcheng Oriental Import & Export Co., Ltd.
Yangzhou Chengde Steel Tube (Yangzhou Chengde Steel Co., Yangzhou Chengde Steel Pipe Co.)
Yangzhou Lontrin Steel Tube (Yangzhou Lontrin Steel Tube Co. Ltd.)
Yantai Lubao Steel Tube
Yantai Steel Pipe Co., Ltd. of Laiwu
Yantai Steel Pipe Plant, Yantai, Shandong
Yicheng Logistics (Shanghai) Co., Ltd.
Yieh Corporation Ltd.
Yuhuan Yinma Copper's Industry Co.
Zhangjiagang Huacheng Import and Export Co.,Ltd.
Zhangjiagang Huayou Tubular Co.
Zhangjiagang Zhongyuan Pipe-Making
Zheijiang Gross Seamless Steel Tube Co., Ltd.
Zheijiang Materials Industry International
Zhengzhou Huitong Pipe Fittings Co. Ltd.
Zhejiang Jianli Enterprise
Zhongjian Jinpei Steel Pipe Co., Ltd.
Zhongyuan Pipeline Manufacturing Co.
Suspension Agreements
Ukraine: Certain Cut-to-Length Carbon Steel Plate, A-823-808 | 11/1/11—10/31/12
Metinvest Holding LLC
³ If one of the above named companies does not qualify for a separate rate, all other exporters of Certain Cut-to-Length Carbon Steel Plate from the PRC who have not qualified for a separate rate are deemed to be covered by this review as part of the single PRC entity of which the named exporters are a part.
⁴ If one of the above named companies does not qualify for a separate rate, all other exporters of Certain Hot-Rolled Carbon Steel Flat Products from the PRC who have not qualified for a separate rate are deemed to be covered by this review as part of the single PRC entity of which the named exporters are a part.
⁵ If one of the above named companies does not quality for a separate rate, all other exporters of Diamond Sawblades and Parts Thereof from the PRC who have not qualified for a separate rate are deemed to be covered by this review as part of the single PRC entity of which the named exporters are a part.
⁶ If one of the above named companies does not qualify for a separate rate, all other exporters of Fresh Garlic from the PRC who have not qualified for a separate rate are deemed to be covered by this review as part of the single PRC entity of which the named exporters are a part.
⁷ If one of the above named companies does not qualify for a separate rate, all other exporters of Lightweight Thermal Paper from the PRC who have not qualified for a separate rate are deemed to be covered by this review as part of the single PRC entity of which the named exporters are a part.
⁸ If one of the above named companies does not qualify for a separate rate, all other exporters of Polyethylene Terephthalate (PET) Film from the PRC who have not qualified for a separate rate are deemed to be covered by this review as part of the single PRC entity of which the named exporters are a part.
⁹ If one of the above named companies does not qualify for a separate rate, all other exporters of Seamless Carbon and Alloy Steel Standard, Line, and Pressure Pipe from the PRC who have not qualified for a separate rate are deemed to be covered by this review as part of the single PRC entity of which the named exporters are a part.
¹⁰ If one of the above named companies does not qualify for a separate rate, all other exporters of Seamless Refined Copper Pipe and Tube from the PRC who have not qualified for a separate rate are deemed to be covered by this review as part of the single PRC entity of which the named exporters are a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the period of review.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (“Interim Final Rule”), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 USC 1675(a)) and 19 CFR 351.221(c)(1)(i).

Dated: December 21, 2012
Christian Marsh,
Deputy Assistant Secretary for Antidumping and Countervailing Duty Operations.

[FR Doc. 2012-31448 Filed 12-28-12; 8:45 am]

BILLING CODE 3510-DS-P